DEPARTMENT OF COMMERCE

National Oceanic and Atmospheric Administration

RIN 0648-XL41

Marine Mammals; File No. 10080

AGENCY: National Marine Fisheries Service (NMFS), National Oceanic and Atmospheric Administration (NOAA), Commerce.

ACTION: Notice; issuance of permit amendment.

SUMMARY: Notice is hereby given that Dr. Kathryn A. Ono, Department of Biological Sciences, University of New England, Biddeford, ME has been issued a major amendment to Permit No. 10080-02.

ADDRESSES: The permit amendment and related documents are available for review upon written request or by appointment in the following office(s):

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978) 281-9333.

FOR FURTHER INFORMATION CONTACT: Tammy Adams or Kate Swails, (301)713-2289.

SUPPLEMENTARY INFORMATION: On October 27, 2008, notice was published in the Federal Register (73 FR 63697) that a request for an amendment Permit No. 10080-02, to conduct research on gray seals (Halichoerus grypus) in the Gulf of Maine, had been submitted by the above-named applicant. The requested permit amendment has been issued under the authority of the Marine Mammal Protection Act of 1972, as amended (16 U.S.C. 1361 et seq.), and the regulations governing the taking and importing of marine mammals (50 CFR part 216).

The amended permit includes authorization to: (1) remotely mark the pelage of adult gray seals of both sexes (200 per year) using the various dyes and paints already permitted for use on pups; (2) use an additional type of marking agent, an alcohol based- dye (Rhodamine B 500%), on pups and adults; (3) disturb an additional 400 non-target gray seals per year during the additional marking activities; and (4) disturb an additional 300 gray seals annually during field camp operations associated with conduct of the research. The amendment also authorizes the incidental research-related mortality of up to four gray seal pups annually.

In compliance with the National Environmental Policy Act of 1969 (42 U.S.C. 4321 et seq.), a final determination has been made that the activity proposed is categorically excluded from the requirement to prepare an environmental assessment or environmental impact statement.

Dated: December 17, 2008.
P. Michael Payne,
Chief, Permits, Conservation and Education Division, Office of Protected Resources, National Marine Fisheries Service.

[FR Doc. E8-30580 Filed 12-22-08; 8:45 am]

BILLING CODE 3510-22-S